DEPARTMENT OF HEALTH AND HUMAN SERVICES

Centers for Disease Control and Prevention

[Program Announcement 03110]

Enhancement of Laboratory Quality Assurance Programs for HIV/AIDS Testing in Countries Supported by the Global AIDS Program; Notice of Intent To Fund Single Eligibility Award

A. Purpose

The Centers for Disease Control and Prevention (CDC) announces the intent to fund fiscal year (FY) 2003 funds for a cooperative agreement program for the enhancement of national laboratory quality assurance programs supporting HIV/AIDS testing for surveillance and prevention activities in countries supported by the Global AIDS Program (GAP). The Catalog of Federal Domestic Assistance number for this program is 93.939.

B. Eligible Applicant

Assistance will be provided only to the National Serology Reference Laboratory (NRL) in the Country of Australia. This announcement is restricted to the Australia NRL because it is a unique agency charged by the World Health Organization (WHO) with providing External Quality Assessment Schemes (EQAS), training, and technical assistance for HIV/AIDS laboratory testing to 100 national and regional reference laboratories in the Asia region and South Pacific.

C. Funding

Approximately $150,000 is available in FY 2003 to fund this award. It is expected that the award will begin on or before September 15, 2003, and will be made for a 12-month budget period within a project period of up to three years. Funding estimates may change.

D. Where To Obtain Additional Information

For general comments or questions about this announcement, contact:

Technical Information Management, CDC Procurement and Grants Office, 2920 Brandywine Road, Atlanta, GA 30341-4146, Telephone: 770-488-2700.

For technical questions about this program, contact: Thomas L. Hearn, Ph.D., Deputy Director, Division of Laboratory Systems, PHPPO, 4770 Buford Highway, MS-G25, Atlanta, GA 30341-3717, Telephone: (770)-488-8282.

Dated: August 14, 2003.
Sandra R. Manning,
Director, Procurement and Grants Office, Centers for Disease Control and Prevention.

[FR Doc. 03-21264 Filed 8-19-03; 8:45 am]

BILLING CODE 4163-18-P